DEPARTMENT OF THE INTERIOR

National Park Service

Notice of Intent; Fire Management Plan, Environmental Impact Statement, Chiricahua National Monument, Arizona

AGENCY: National Park Service, Department of the Interior.

ACTION: Notice of intent to prepare an environmental impact statement for the Fire Management Plan for Chiricahua National Monument.

SUMMARY: Under the provisions of the National Environmental Policy Act of 1969, the National Park Service is preparing an environmental impact statement for the Fire Management Plan for Chiricahua National Monument. This effort will result in a new wildland fire management plan that meets current policies, provides a framework for making fire-related decisions, and serves as an operational manual. Development of a new fire plan is compatible with the broader goals and objectives derived from the park purpose that governs resources management. Alternatives are based on internal scoping done by National Park Service staff on October 17 and 18, 2001. Besides the No-action alternative, preliminary alternatives include the proposed Corridor Plan alternative and Landscape Plan alternative. The No-action alternative maintains the current 1992 fire management plan strategy of suppression, prescribed natural fire, and prescribed burning. The proposed alternative Corridor Plan alternative would allow natural fires and prescribed fires that meet management objectives except in the narrow corridor of developments. This area of the park would be subject to suppression and selective prescribed burning and mechanical thinning to reduce fuel hazards. The Landscape Plan alternative would call for the National Park Service and adjacent US Forest Service to jointly formulate a fire management plan that covers the entire landscape of the Chiricahua Mountains or a more naturally-bound portion of the range.

Major issues are environmental effects of the FMP that are potential problems and include reduction of plant and wildlife populations, disturbance of unique sites, increased erosion or debris flow, increased air pollution, hazards to life and property, visitor inconvenience, reduced tourism, and damage to cultural resources

A scoping brochure has been prepared describing the issues identified to date. Copies of the brochures may be obtained from Superintendent, Chiricahua National Monument, 13063 E. Bonita Canyon Road, Willcox, AZ 85643-9737. The scoping period will be 30 days from the date this notice is published in the Federal Register.

Comments

If you wish to comment on the scoping brochure, you may submit your comments by any one of several methods. You may mail comments to Superintendent, Chiricahua National Monument, 13063 E. Bonita Canyon Road, Willcox, AZ 85643-9737. You may also comment via the Internet to CHIR_Superintendent@nps.gov. Please submit Internet comments as an ASCII file avoiding the use of special characters and any form of encryption. Please also include “Attn: Chiricahua Fire Management Plan” and your name and return address in your Internet message. If you do not receive a confirmation from the system that we have received your Internet message, contact us directly at Resources Management 520-824-3560 x120. Finally, you may hand-deliver comments to the above address or at the two public meetings that will be held in Portal, Arizona, and a location near the monument. Notification of the public meetings will be given in a brochure describing the fire planning process, which will be mailed to the addresses generated for the monument's recently approved general management plan. The brochure will be mailed once we are notified of the date that this Notice of Intent is published in the Federal Register. If you are not on the monument's mailing list and would like a copy of the brochure, please contact the Superintendent.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

FOR FURTHER INFORMATION CONTACT: Superintendent, Chiricahua National Monument, 520-824-3560 x105.

Dated: December 20, 2001.
Michael D. Snyder,
Acting Director, Intermountain Region, National Park Service.

[FR Doc. 02-2308 Filed 1-30-02; 8:45 am]

BILLING CODE 4310-70-P